DEPARTMENT OF THE INTERIOR

National Park Service

[NPS-WASO-NAGPRA-23314; PPWOCRADN0-PCU00RP14.R50000]

Notice of Inventory Completion: Allen County-Fort Wayne Historical Society, Fort Wayne, IN

AGENCY: National Park Service, Interior.

ACTION: Notice.

SUMMARY: The Allen County-Fort Wayne Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Allen County-Fort Wayne Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Allen County-Fort Wayne Historical Society at the address in this notice by July 14, 2017.

ADDRESSES: Walter Font, Curator, Allen County-Fort Wayne Historical Society, 302 East Berry Street, Fort Wayne, IN 46802, telephone (260) 426-2882, email wfont@comcast.net.

SUPPLEMENTARY INFORMATION: Notice is here given in accordance with the Native American Graves Protection and Repatriation Act (NAGPRA), 25 U.S.C. 3003, of the completion of an inventory of human remains and associated funerary objects under the control of the Allen County-Fort Wayne Historical Society, Fort Wayne, IN. The human remains and associated funerary objects were removed from Allen County, IN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Allen County-Fort Wayne Historical Society professional staff in consultation with the Indiana University-Purdue University, Fort Wayne, Archaeology Survey office, and representatives of the Miami Tribe of Oklahoma and the Pokagon Band of Potawatomi Indians, Michigan and Indiana.

History and Description of the Remains

On an unknown date, human remains representing, at minimum, 1 individual were removed from an unknown site in northeast Indiana, mostly likely in Allen County, IN. In September 2013, the human remains were found during a collection inventory without identification or provenance data. Sex and age are indeterminate. No known individuals were identified. The 2 associated funerary objects are one ceramic bead and one broken slate gorget.

On an unknown date, human remains representing, at minimum, 1 individual were removed from an unknown site in northeast Indiana, mostly likely in Allen County, IN. In September 2013, the human remains were found during a collection inventory without identification or provenance data. Sex and age are indeterminate. No known individuals were identified. No associated funerary objects are present.

On an unknown date, human remains representing, at minimum, 1 individual were removed from an unknown site in northeast Indiana, mostly likely in Allen County, IN. In September 2013, the human remains were found during a collection inventory without identification or provenance data. Sex and age are indeterminate. No known individuals were identified. The 3 associated funerary objects are one glass vial containing a deer tooth, one pottery sherd, and one piece of a strap handle.

On unknown dates, human remains representing, at minimum, 3 individuals were removed from unknown sites in northeast Indiana, mostly likely in Allen County, IN. In the late 1990s, the human remains were found during a collection inventory without identification or provenance data. Sex and age are indeterminate. No known individuals were identified. No associated funerary objects are present.

Determinations Made by the Allen County-Fort Wayne Historical Society

Officials of the Allen County-Fort Wayne Historical Society have determined that:

• Pursuant to 25 U.S.C. 3001(9), the human remains described in this notice are Native American based on an examination by the Indiana University-Purdue University, Fort Wayne, Archaeology Survey office, in November 2013.

• Pursuant to 25 U.S.C. 3001(9), the human remains described in this notice represent the physical remains of 6 individuals of Native American ancestry.

• Pursuant to 25 U.S.C. 3001(3)(A), the 5 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Miami Tribe of Oklahoma.

• Pursuant to 43 CFR 10.11(c)(1), the disposition of the human remains and associated funerary objects may be to the Miami Tribe of Oklahoma.

Additional Requestors and Disposition

Representatives of any Indian Tribe or Native Hawaiian organization not identified in this notice that wish to request transfer of control of these human remains and associated funerary objects should submit a written request with information in support of the request to Walter Font, Curator, Allen County-Fort Wayne Historical Society, 302 East Berry Street, Fort Wayne, IN 46802, telephone (260) 426-2882, email wfont@comcast.net, by July 14, 2017. After that date, if no additional requestors have come forward, transfer of control of the human remains and associated funerary objects to the Miami Tribe of Oklahoma may proceed.

The Allen County-Fort Wayne Historical Society is responsible for notifying the Miami Tribe of Oklahoma and the Pokagon Band of Potawatomi Indians, Michigan and Indiana, that this notice has been published.

Dated: April 27, 2017.
Melanie O'Brien,
Manager, National NAGPRA Program.

[FR Doc. 2017-12294 Filed 6-13-17; 8:45 am]

BILLING CODE 4312-52-P